DEPARTMENT OF DEFENSE

Office of the Secretary

[Docket ID: DoD-2015-OS-0112]

Privacy Act of 1974; System of Records

AGENCY: Office of the Secretary of Defense, DoD.

ACTION: Notice to alter a System of Records.

SUMMARY: The Office of the Secretary of Defense proposes to alter a system of records notice DMDC 05, entitled “Joint Duty Assignment Management Information System (JDAMIS)” to enable consolidated tracking of joint experiences for the purpose of awarding joint qualification experience and training, and to provide an annual report to Congress as required by Title 10, Chapter 38, Section 667. Records are also used as a management tool for statistical analysis, tracking, reporting to Congress, evaluating program effectiveness, and conducting research.

DATES: Comments will be accepted on or before November 30, 2015. This proposed action will be effective on the date following the end of the comment period unless comments are received which result in a contrary determination.

ADDRESSES: You may submit comments, identified by docket number and title, by any of the following methods:

• Federal Rulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571)372-0461.

SUPPLEMENTARY INFORMATION: The Office of the Secretary of Defense notices for systems of records subject to the Privacy Act of 1974 (5 U.S.C. 552a), as amended, have been published in the Federal Register and are available from the address in the FOR FURTHER INFORMATION CONTACT or from the Defense Privacy and Civil Liberties Division Web site at http://dpcld.defense.gov/.

The proposed systems reports, as required by 5 U.S.C. 552a(r) of the Privacy Act, as amended, were submitted on October 23, 2015, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: October 23, 2015.
Aaron Siegel,
Alternate OSD Federal Register Liaison Officer, Department of Defense.

DMDC 05

System name:

Joint Duty Assignment Management Information System (JDAMIS) (March 15, 2011, 76 FR 13992).

Changes:

* * * * *

Categories of individuals covered by the system:

Delete entry and replace with “All military officers of the Armed Forces who: Are serving or have served in billets designated as joint duty assignment positions; are attending or have completed joint professional military education schools; are designated as joint qualified at various levels of qualification; or are eligible to be nominated and designated at various joint qualification levels; and have earned approved joint experience or discretionary points.”

Categories of records in the system:

Delete entry and replace with “Information on individuals includes first name, last name, Social Security Number (SSN), date of birth, gender, date of rank, military branch, occupation, duty station, joint professional military education status, pay grade, race, ethnicity, joint qualification level, skill code, departure reason, and DoD email address. Also includes information on billets such as service, unit identification code, tour length, rank, job title, and critical billet code.”

Authority for maintenance of the system:

Delete entry and replace with “10 U.S.C. Chapter 38, Joint Officer Management; 10 U.S.C. Chapter 107, Professional Military Education; 10 U.S.C. 136, Under Secretary of Defense for Personnel and Readiness; Chairman of the Joint Chiefs of Staff Instruction 1330.05, Joint Officer Management Program Procedures; DoD Instruction 1300.19, DoD Joint Officer Management (JOM) Program; and E.O. 9397 (SSN), as amended.”

Purpose(s):

Delete entry and replace with “To enable consolidated tracking of joint experiences for the purpose of awarding joint qualification experience and training, and to provide an annual report to Congress as required by Title 10, Chapter 38, Section 667. Records are also used as a management tool for statistical analysis, tracking, reporting to Congress, evaluating program effectiveness, and conducting research.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD blanket routine uses can be found online at: http://dpcld.defense.gov/Privacy/SORNsIndex/BlanketRoutineUses.aspx”

* * * * *

Safeguards:

Delete entry and replace with “Electronic records are maintained in a controlled area accessible only to authorized personnel. Entry to these areas is restricted by the use of locks, guards, and administrative procedures such as periodic security audits and regular monitoring of users' security practices. Access to personal information is limited to those who require the records in the performance of their official duties. Access to personal information is further restricted by the use of the Common Access Card (CAC), intrusion detection system (IDS), encryption and firewalls.”

* * * * *

System manager(s) and address:

Delete entry and replace with “Deputy Director, Defense Manpower Data Center, DoD Center Monterey Bay, 400 Gigling Road, Seaside, CA 93955-6771.”

Notification procedure:

Delete entry and replace with “Individuals seeking to determine whether information about themselves is contained in this system should address written inquiries to the Deputy Director, Defense Manpower Data Center, DoD Center Monterey Bay, 400 Gigling Road, Seaside, CA 93955-6771.

Signed, written requests should contain the requester's first name, last name, SSN, current address and telephone number.”

Record access procedures:

Delete entry and replace with “Individuals seeking access to information about themselves contained in this system should address written inquiries to the Office of the Secretary of Defense/Joint Staff, Freedom of Information Act Requester Service Center, 1155 Defense Pentagon, Washington, DC 20301-1155.

Signed, written requests should contain the name and number of this system of records notice along with the requester's first name, last name, SSN, current address and telephone number.”

* * * * *

Record source categories:

Delete entry and replace with “DMDC Active Duty and Reserve Component flat files, Defense Enrollment Eligibility Reporting System database, the Military Services, and the Joint Staff.”

* * * * *

[FR Doc. 2015-27528 Filed 10-28-15; 8:45 am]

BILLING CODE 5001-06-P